COMMISSION ON REVIEW OF OVERSEAS MILITARY FACILITY STRUCTURE OF THE UNITED STATES

Public Meeting

AGENCIES: Commission on Review of Overseas Military Facility structure of the United States (Overseas Basing Commission).

ACTION: Notice of public meeting.

SUMMARY: In accordance with the Federal Advisory Committee Act, section 552 of title 5 U.S.C., this serves as public notice of a meeting of the Commission on the Review of Overseas Military Facility Structure of the United States. This Commission is established by Public Law 108-132 to provide Congress and the President with a thorough study and review of matters relating to the military facility structure overseas. The law requires the report to include a proposal for an overseas basing strategy to meet current and future DOD missions. A copy of the document to be discussed at the meeting, “Options for Changing the Army's Overseas Basing” can be downloaded from http://www.cbo.gov.

DATES: The meeting will be held on July 14, 2004, at 10 a.m., local time.

ADDRESSES: The meeting will be held at the Congressional Budget Office, Ford House Office Building, room 483, 2nd & D Streets, SW., Washington, DC.

FOR FURTHER INFORMATION CONTACT: Mr. Wade Nelson, Public Affairs, (708) 204-0711.

SUPPLEMENTARY INFORMATION: Due to security considerations at the facility, attendees may be required to present a valid identification. The public meeting is physically accessible to people with disabilities.

Dated: June 29, 2004.
Patricia J. Walker,
Executive Director, Commission on Review of Overseas Military Facility Structure of the United States.

[FR Doc. 04-15178 Filed 7-1-04; 8:45 am]

BILLING CODE 6820-YK-M